FEDERAL RESERVE SYSTEM

Change in Bank Control Notices; Acquisition of Shares of Bank or Bank Holding Companies

The notificants listed below have applied under the Change in Bank Control Act (12 U.S.C. 19817 (j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors/ Interested persons may express their views in writing to the Reserve Bank indicated for that notice or to the offices of the Board of Governors. Comments must be received not later than January 10, 2001.

A. Federal Reserve Bank of Atlanta (Cynthia C. Goodwin, Vice President) 104 Marietta Street, N.W., Atlanta, Georgia 30303-2713:

1. Pedro Gil Morrison , Palm Beach, Florida; to retain voting shares of Palm Beach National Holding Company, Palm Beach, Florida, and thereby indirectly retain voting shares of Palm Beach National Bank and Trust Company, Palm Beach, Florida.

B. Federal Reserve Bank of Chicago (Phillip Jackson, Applications Officer) 230 South LaSalle Street, Chicago, Illinois 60690-1414:

1. Roy W. Messerschmidt 2000 Irrevocable Trust, West Des Moines, Iowa, and Richard Roy Messerschmidt, West Des Moines, Iowa, and William Ross Messerschmidt, Dallas Center, Iowa; as Trustees; to retain voting shares of FNB Holding, Co., West Des Moines, Iowa, and thereby indirectly retain voting shares of First Bank, West Des Moines, Iowa.

C. Federal Reserve Bank of Dallas(W. Arthur Tribble, Vice President) 2200 North Pearl Street, Dallas, Texas 75201-2272:

1. James Ross McKnight, Throckmorton, Texas; to acquire additional voting shares of Throckmorton Bancshares, Inc., Throckmorton, Texas, and thereby indirectly acquire additional voting shares of First National Bank, Throckmorton, Texas.

Board of Governors of the Federal Reserve System, December 20, 2000.
Robert deV. Frierson
Associate Secretary of the Board.

[FR Doc. 00-32913 Filed 12-26-00; 8:45 am]

BILLING CODE 6210-01-S